DEPARTMENT OF ENERGY

Federal Energy Regulatory Commission

Combined Notice of Filings #1

Take notice that the Commission received the following electric rate filings:

Docket Numbers: ER16-683-000.

Applicants: Southern California Edison Company.

Description: Section 205(d) Rate Filing: LGIA Sunray Energy, LLC SEGS II Project to be effective 1/1/2016.

Filed Date: 1/6/16.

Accession Number: 20160106-5000.

Comments Due: 5 p.m. ET 1/27/16.

Docket Numbers: ER16-684-000.

Applicants: AlphaGen Power LLC.

Description: Section 205(d) Rate Filing: Cancellation of MBR tariff to be effective 3/6/2016.

Filed Date: 1/6/16.

Accession Number: 20160106-5126.

Comments Due: 5 p.m. ET 1/27/16.

Docket Numbers: ER16-685-000.

Applicants: PJM Interconnection, L.L.C.

Description: Section 205(d) Rate Filing: Original Service Agreement No. 4327; Queue No. AA1-057 to be effective 12/9/2015.

Filed Date: 1/6/16.

Accession Number: 20160106-5171.

Comments Due: 5 p.m. ET 1/27/16.

Docket Numbers: ER16-686-000.

Applicants: Southern California Edison Company.

Description: Section 205(d) Rate Filing: Revised Non-Trasmission Depreciation Rates in SCE's Formula Transmission Rate to be effective 1/1/2015.

Filed Date: 1/6/16.

Accession Number: 20160106-5226.

Comments Due: 5 p.m. ET 1/27/16.

Docket Numbers: ER16-687-000.

Applicants: PacifiCorp.

Description: Section 205(d) Rate Filing: Noble Americas Energy Solutions NITSA Rev 9 to be effective 1/1/2016.

Filed Date: 1/6/16.

Accession Number: 20160106-5233.

Comments Due: 5 p.m. ET 1/27/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 6, 2016.
Nathaniel J. Davis, Sr.,
Deputy Secretary.

[FR Doc. 2016-00398 Filed 1-11-16; 8:45 am]

BILLING CODE 6717-01-P